ENVIRONMENTAL PROTECTION AGENCY

[FRL-6944-1]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1962.01; Business Ownership Representation; was approved 11/20/2000; OMB No. 2030-0041; expires 11/30/2002.

EPA ICR No. 1972.01; National Primary Drinking Water Regulations: Radionuclides; was approved 11/21/2000; OMB No. 2040-0228; expires 11/30/2003.

EPA ICR No. 0976.10; The 2001 Hazardous Waste Report (Biennial Report); in 40 CFR part 262.41, 264.75, and 265.75; was approved 12/01/2000; OMB No. 2050-0024; expires 06/30/2003.

EPA ICR No. 2005.01; The RCRA Subtitle C. Site Identification Form; in 40 CFR part 262.41, 264.75, and 265.75; was approved 12/01/2000; OMB No. 2050-0175; expires 12/31/2003.

EPA ICR No. 1882.02; Unregulated Contaminant Monitoring Regulations for Public Water Systems; Analytical Methods for List 2 Contaminants (Proposed Rule); was approved 12/08/2000; OMB No. 2040-0208; expires 12/31/2003.

Short Term Extensions

EPA ICR No. 1826.01; Information Collection for Equipment Manufacturer Flexibility; in 40 CFR part 89, subpart K; OMB No. 2060-0369; on 11/29/2000 OMB extended the expiration date through 04/30/2001.

EPA ICR No. 1132.05; NSPS for Volatile Organic Liquid Storage Vessels; in 40 CFR part 60, subpart Kb; OMB No. 2060-0074; on 11/28/2000 OMB extended the expiration date through 02/28/2001.

EPA ICR No. 1414.03; Hazardous Organic NESHAP (HON); in 40 CFR part 60, subparts K, Kb, S, T, U, V, W, X, AAA, and 40 CFR part 63, subparts F, G, H, and I; OMB No. 2060-0282; on 11/28/2000 OMB extended the expiration date through 02/28/2001.

EPA ICR No. 0857.07; Polychlorinated biphenyls (PCBs): Manufacturing, Processing, and Distribution in Commerce Exemption; in 40 CFR part 750; OMB No. 2070-0021; on 11/22/2000 OMB extended the expiration date through 02/28/2001.

EPA ICR No. 1001.06; Polychlorinated Biphenyls (PCBs): Exclusions, Exemptions, and Use Authorizations; in 40 CFR part 761; in 40 CFR part 60, subpart S; OMB No. 2070-0008; on 11/22/2000 OMB extended the expiration date through 02/28/2001.

EPA ICR No. 1683.02; NSPS for Primary Aluminum Reduction Plants, Recordkeeping and Reporting; in 40 CFR part 60, subpart S; OMB No. 2060-0031; on 11/22/2000 OMB extended the expiration date through 02/28/2001.

EPA ICR No. 1684.04; Compression Ignition Non-Road Engine Certification Application; in 40 CFR part 86 and 89; OMB No. 2060-0287; on 11/28/2000 OMB extended the expiration date through 02/28/2001.

EPA ICR No. 1695.06; Non-Road Spark-Ignition Engine at or Below 19 Kilowatts for Emission Certification and the Averaging, Banking, and Trading Program; in 40 CFR part 63, subpart R; OMB No. 2060-0338; on 11/28/2000 OMB extended the expiration date through 02/28/2001.

Dated: February 1, 2001.
Oscar Morales, Director,
Director, Collection Strategies Division.

[FR Doc. 01-3506 Filed 2-9-01; 8:45 am]

BILLING CODE 6560-50-P